DEPARTMENT OF HOMELAND SECURITY

Federal Emergency Management Agency

[FEMA-1624-DR]

Texas; Major Disaster and Related Determinations

AGENCY: Federal Emergency Management Agency, Department of Homeland Security.

ACTION: Notice.

SUMMARY: This is a notice of the Presidential declaration of a major disaster for the State of Texas (FEMA-1624-DR), dated January 11, 2006, and related determinations.

DATES: Effective Date: January 11, 2006.

FOR FURTHER INFORMATION CONTACT: Magda Ruiz, Recovery Division, Federal Emergency Management Agency, Washington, DC 20472, (202) 646-2705.

SUPPLEMENTARY INFORMATION: Notice is hereby given that, in a letter dated January 11, 2006, the President declared a major disaster under the authority of the Robert T. Stafford Disaster Relief and Emergency Assistance Act, 42 U.S.C. 5121-5206 (the Stafford Act), as follows:

I have determined that damage in certain areas of the State of Texas, resulting from an extreme wildfire threat beginning on December 1, 2005, and continuing, is of sufficient severity and magnitude to warrant a major disaster declaration under the Robert T. Stafford Disaster Relief and Emergency Assistance Act, 42 U.S.C. 5121-5206 (Stafford Act). Therefore, I declare that such a major disaster exists in the State of Texas.

In order to provide Federal assistance, you are hereby authorized to allocate from funds available for these purposes such amounts as you find necessary for Federal disaster assistance and administrative expenses.

You are authorized to provide Individual Assistance for losses sustained in the designated areas on or after December 1, 2005, Hazard Mitigation assistance throughout the State, and assistance under the Public Assistance program (Category B) for emergency protective measures implemented on or after December 27, 2005, for eligible costs (as determined by FEMA) resulting from wildfires that pose a significant threat to life and property in any county, or portion thereof, to be designated by you in consultation with the State, for as long as such areas are threatened by an urgent danger of such wildfires, and such other forms of assistance under the Stafford Act as you may deem appropriate.

Designation of specific counties eligible for reimbursement will be made on a weekly basis for the duration of the incident, and those designated for approved reimbursements will be based on measurable weather and fire conditions that identify areas threatened by an urgent danger from wildfires.

Consistent with the requirement that Federal assistance be supplemental, any Federal funds provided for Public Assistance, Hazard Mitigation, and Other Needs Assistance as authorized by the Stafford Act will be limited to 75 percent of the total eligible costs.

Further, you are authorized to make changes to this declaration to the extent allowable under the Stafford Act.

The time period prescribed for the implementation of section 310(a), Priority to Certain Applications for Public Facility and Public Housing Assistance, 42 U.S.C. 5153, shall be for a period not to exceed six months after the date of this declaration.

The Federal Emergency Management Agency (FEMA) hereby gives notice that pursuant to the authority vested in the Acting Director, under Executive Order 12148, as amended, Sandra Coachman, of FEMA is appointed to act as the Federal Coordinating Officer for this declared disaster.

I do hereby determine the following areas of the State of Texas to have been affected adversely by this declared major disaster: Callahan, Cooke, Eastland, Erath, Hood, Montague, Palo Pinto, Tarrant, and Wise Counties for Individual Assistance.

All 254 counties in the State of Texas for Public Assistance (Category B) emergency protective measures implemented on or after December 27, 2005, for eligible costs (as determined by FEMA) resulting from wildfires that pose a significant threat to life and property in any county, or portion thereof, to be designated by FEMA in consultation with the State, for as long as such areas are threatened by an urgent danger of such wildfires.

Designation of specific counties eligible for reimbursement will be made on a weekly basis for the duration of the incident, and those designated for approved reimbursements will be based on measurable weather and fire conditions that identify areas threatened by an urgent danger from wildfires.

All counties within the State of Texas are eligible to apply for assistance under the Hazard Mitigation Grant Program.

(The following Catalog of Federal Domestic Assistance Numbers (CFDA) are to be used for reporting and drawing funds: 97.030, Community Disaster Loans; 97.031, Cora Brown Fund Program; 97.032, Crisis Counseling; 97.033, Disaster Legal Services Program; 97.034, Disaster Unemployment Assistance (DUA); 97.046, Fire Management Assistance; 97.048, Individuals and Households Housing; 97.049, Individuals and Households Disaster Housing Operations; 97.050, Individuals and Households Program—Other Needs; 97.036, Public Assistance Grants; 97.039, Hazard Mitigation Grant Program.)

R. David Paulison,
Acting Director, Federal Emergency Management Agency, Department of Homeland Security.

[FR Doc. E6-1062 Filed 1-27-06; 8:45 am]

BILLING CODE 9110-10-P